DEPARTMENT OF TRANSPORTATION

Pipeline and Hazardous Materials Safety Administration

49 CFR Part 192

[Docket No. PHMSA-2025-0116]

RIN 2137-AF86

Pipeline Safety: Harmonize Class Location Change Pressure Test Requirements With Subpart J Pressure Test Requirements

AGENCY: Pipeline and Hazardous Materials Safety Administration (PHMSA), Department of Transportation (DOT).

ACTION: Notice of Proposed Rulemaking (NPRM).

SUMMARY: PHMSA is proposing to revise the regulation for confirming or revising the maximum allowable operating pressure following a class location change to clarify that owners and operators of gas pipeline facilities can use to satisfy that requirement certain pressure tests authorized by subpart J of part 192 for small segments of pipe.

DATES: Persons interested in submitting written comments on this proposed rule must do so by September 2, 2025.

ADDRESSES: You may submit comments identified by the Docket Number PHMSA-2025-0116 using any of the following methods:

E-Gov Web: https://www.regulations.gov. This site allows the public to enter comments on any Federal Register notice issued by any agency. Follow the online instructions for submitting comments.

Mail: Docket Management System: U.S. Department of Transportation, 1200 New Jersey Avenue SE, West Building Ground Floor, Room W12-140, Washington, DC 20590-0001.

Hand Delivery: U.S. DOT Docket Management System: West Building Ground Floor, Room W12-140, 1200 New Jersey Avenue SE, between 9 a.m. and 5 p.m., Monday through Friday, except Federal holidays.

Fax: 1-202-493-2251.

For commenting instructions and additional information about commenting, see SUPPLEMENTARY INFORMATION.

FOR FURTHER INFORMATION CONTACT: Robert Jagger, Senior Transportation Specialist, by telephone at 202-366-4361 or by email at robert.jagger@dot.gov.

I. General Discussion

PHMSA proposes amending the requirement at § 192.611(a)(1) for confirming or revising the maximum allowable operating pressure (MAOP) of gas pipelines where the hoop stress corresponding to the established MAOP of a segment of pipeline is not commensurate with the present class location. Currently, § 192.611(a)(1) states that any pipeline segment involved in a class location change that has been previously tested in place for a period of not less than 8 hours must follow certain requirements to confirm or revise the MAOP of that segment. PHMSA adopted the 8-hour pressure test duration requirement in § 192.611(a)(1) in the early 1970s based on the provisions in a then-current edition of a consensus industry standard, the American Society of Mechanical Engineers Standard B31.8 “Gas Transmission and Distribution Piping Systems” (35 FR 13248 (Aug. 19, 1970)). PHMSA's regulations elsewhere at § 192.505 authorize the use of a 4-hour pressure test for short or prefabricated pipeline segments if an 8-hour, post-installation test is impractical. These short or prefabricated pipeline segments generally present a lower risk to public safety, which justifies the shorter pressure testing interval at the time of installation.

The current language governing the 8-hour pressure testing requirement in § 192.611(a)(1) prevents operators from using an otherwise valid 4-hour test to confirm or revise the MAOP of a segment following a change in class location. To the extent that such a conflict exists, prohibiting operators from using a valid pressure test to confirm or revise the MAOP of a segment is not consistent with the intent of the pressure testing requirement in § 192.611(a)(1).

For more than five decades, § 192.505(d) has allowed operators to conduct pre-installation strength tests of fabricated units and short sections of pipe for which a post-installation test is impractical by maintaining the pressure at or above the test pressure for at least 4 hours. That requirement has proven its safety value since its adoption. Indeed, PHMSA recently expanded the use of 4-hour pressure testing duration requirements to additional provisions in the Pipeline Safety Regulations (86 FR 2210, 2233 (Jan. 21, 2021)). Operational experience with subpart J-compliant pipe demonstrates an 8-hour test duration is not essential to evaluating the mechanical strength of a pipeline undergoing a class change pursuant to § 192.611(a)(1).

Moreover the language at § 192.611(a)(1) confronts operators with a dilemma: incur additional compliance costs (and safety risks) associated with an 8-hour pressure test or assume the risk that PHMSA will enforce the apparent violation of § 192.611(a)(1) by relying on shorter, subpart J-compliant pressure testing. There is no reason that operators should be faced with that dilemma. PHMSA therefore has preliminarily concluded that the regulatory amendment proposed in this NPRM will reduce burdens on operators without adversely affecting safety.

Commenting

Instructions: Please include the docket number PHMSA-2025-0116 at the beginning of your comments. If you submit your comments by mail, submit two copies. If you wish to receive confirmation that PHMSA received your comments, include a self-addressed stamped postcard. Internet users may submit comments at https://www.regulations.gov.

Note: Comments are posted without changes or edits to https://www.regulations.gov, including any personal information provided. There is a privacy statement published on https://www.regulations.gov.

Privacy Act: In accordance with 5 United States Code (U.S.C.) 553(c), DOT solicits comments from the public to inform its rulemaking process. DOT posts these comments, without edit, including any personal information the commenter provides, to https://www.regulations.gov, as described in the system of records notice (DOT/ALL-14 FDMS), which can be reviewed at https://www.dot.gov/privacy.

Confidential Business Information: Confidential Business Information (CBI) is commercial or financial information that is both customarily and actually treated as private by its owner. Under the Freedom of Information Act (FOIA, 5 U.S.C. 552), CBI is exempt from public disclosure. It is important that you clearly designate the comments submitted as CBI if: your comments responsive to this document contain commercial or financial information that is customarily treated as private; you actually treat such information as private; and your comment is relevant or responsive to this notice. Pursuant to 49 Code of Federal Regulations (CFR) 190.343, you may ask PHMSA to provide confidential treatment to information you give to the agency by taking the following steps: (1) mark each page of the original document submission containing CBI as “Confidential”; (2) send PHMSA, along with the original document, a second copy of the original document with the CBI deleted; and (3) explain why the information that you are submitting is CBI. Submissions containing CBI should be sent to Robert Jagger, PHP-30, Pipeline and Hazardous Materials Safety Administration (PHMSA), 2nd Floor, 1200 New Jersey Avenue SE, Washington, DC 20590-0001, or by email at robert.jagger@dot.gov. Any materials PHMSA receives that is not specifically designated as CBI will be placed in the public docket.

Docket: For access to the docket to read background documents or comments received, go to https://www.regulations.gov. Follow the online instructions for accessing the docket. Alternatively, you may review the documents in person at the street address listed above.

II. Regulatory Analysis and Notices

A. Legal Authority

This proposed rule is published under the authority of the Secretary of Transportation set forth in the Federal Pipeline Safety Laws (49 U.S.C. 60101 et seq.) and delegated to the PHMSA Administrator pursuant to 49 CFR 1.97.

B. Executive Order 12866; Regulatory Planning and Review

Executive Order (E.O.) 12866 (“Regulatory Planning and Review”; 58 FR 51735 (Oct. 4, 1993)) as implemented by DOT Order 2100.6B (“Policies and Procedures for Rulemaking”), requires agencies to regulate in the “most cost-effective manner,” to make a “reasoned determination that the benefits of the intended regulation justify its costs,” and to develop regulations that “impose the least burden on society.” DOT Order 2100.6B specifies that regulations should generally “not be issued unless their benefits are expected to exceed their costs.” In arriving at those conclusions, E.O. 12866 requires that agencies should consider “both quantifiable measures . . . and qualitative measures of costs and benefits that are difficult to quantify” and “maximize net benefits . . . unless a statute requires another regulatory approach.” E.O. 12866 also requires that “agencies should assess all costs and benefits of available regulatory alternatives, including the alternative of not regulating.” DOT Order 2100.6B directs that PHMSA and other Operating Administrations must generally choose the “least costly regulatory alternative that achieves the relevant objectives” unless required by law or compelling safety need.

E.O. 12866 and DOT Order 2100.6B also require that PHMSA submit “significant regulatory actions” to the Office of Information and Regulatory Affairs (OIRA) within the Executive Office of the President's Office of Management and Budget (OMB) for review. This proposed rule is a not significant regulatory action pursuant to E.O. 12866; it also has not designated this rule as a “major rule” as defined by the Congressional Review Act (5 U.S.C. 801 et seq.).

PHMSA has complied with the requirements in E.O. 12866 as implemented by DOT Order 2100.6B and expects the proposed rule will result in cost savings by reducing regulatory burdens and regulatory uncertainty for pipeline facility operators by clarifying the regulations for confirming or revising the MAOP of gas pipeline facilities following a change in class location. PHMSA expects these cost savings would be realized by the public to whom pipeline operators generally transfer a portion of their compliance costs. The cost savings of this rulemaking could not be quantified.

C. Executive Orders 14192 and 14219

This proposed rule would be a deregulatory action pursuant to E.O. 14192 (“Unleashing Prosperity Through Deregulation”; (90 FR 9065 (Feb. 6, 2025)). PHMSA estimates that the total costs of the rulemaking on the regulated community would be less than zero. Nor does this rulemaking implicate any of the factors identified in section 2(a) of E.O. 14219 (“Ensuring Lawful Governance and Implementing the President's `Department of Government Efficiency' Deregulatory Initiative”) indicative that a regulation is “unlawful . . . [or] that undermine[s] the national interest.” (90 FR 10583 (Feb. 25, 2025).

D. Energy-Related Executive Orders 13211, 14154, and 14156

The President has declared in E.O. 14156 (“Declaring a National Energy Emergency”; (90 FR 8353 (Jan. 29, 2025)) a national emergency to address America's inadequate energy development production, transportation, refining, and generation capacity. Similarly, E.O. 14154 (“Unleashing American Energy,” (90 FR 8353 (Jan. 29, 2025)) asserts a Federal policy to unleash American energy by ensuing access to abundant supplies of reliable, affordable energy from (inter alia) the removal of “undue burden[s]” on the identification, development, or use of domestic energy resources such as PHMSA-jurisdictional gasses and hazardous liquids. PHMSA preliminarily finds this rulemaking is consistent with each of E.O. 14156 and E.O. 14154. This proposal herein would give affected pipeline operators greater flexibility in pressure testing methods associated with reconfirming or revising MAOP following a class location change. PHMSA therefore expects the proposed regulatory amendments will in turn increase national pipeline transportation capacity and improve pipeline operators' ability to provide abundant, reliable, affordable natural gas in response to residential, commercial, and industrial demand.

However, this proposed rule is not a “significant energy action” under E.O. 13211 (“Actions Concerning Regulations That Significantly Affect Energy Supply, Distribution, or Use”; (66 FR 28355 (May 22, 2001)), which requires Federal agencies to prepare a Statement of Energy Effects for any “significant energy action.” Because this proposed rule is not a significant action under E.O. 12866, it would not have a significant adverse effect on supply, distribution, or energy use, as further discussed in the Regulatory Impact Analysis; OIRA has therefore not designated this NPRM as a significant energy action.

E. Executive Order 13132: Federalism

PHMSA analyzed this NPRM in accordance with the principles and criteria contained in E.O. 13132 (“Federalism”; 64 FR 43255 (Aug. 10, 1999)) and the Presidential Memorandum (“Preemption”) published in the Federal Register on May 22, 2009 (74 FR 24693). E.O. 13132 requires agencies to ensure meaningful and timely input by State and local officials in the development of regulatory policies that may have “substantial direct effects on the States, on the relationship between the National Government and the States, or on the distribution of power and responsibilities among the various levels of government.”

While this NPRM's proposal may operate to preempt some State requirements, it would not impose any regulation that has substantial direct effects on the States, the relationship between the National Government and the States, or the distribution of power and responsibilities among the various levels of government. Section 60104(c) of Federal Pipeline Safety Laws prohibits certain State safety regulation of interstate pipelines. Under Federal Pipeline Safety Laws, States that have submitted a current certification under section 60105(a) can augment Federal pipeline safety requirements for intrastate pipelines regulated by PHMSA but may not approve safety requirements less stringent than those required by Federal law. A State may also regulate an intrastate pipeline facility that PHMSA does not regulate. The preemptive effect of the proposed regulatory amendments would be limited to the minimum level necessary to achieve the objectives of the Federal Pipeline Safety Laws. Therefore, the consultation and funding requirements of E.O. 13132 do not apply.

F. Regulatory Flexibility Act

The Regulatory Flexibility Act (5 U.S.C. 601 et seq.) requires Federal agencies to conduct a Final Regulatory Flexibility Analysis (FRFA) for a rulemaking subject to notice-and-comment rulemaking under the Administrative Procedure Act (5 U.S.C. 500 et seq.) unless the agency head certifies that the proposed rule in the rulemaking will not have a significant economic impact on a substantial number of small entities. E.O. 13272 (“Proper Consideration of Small Entities in Agency Rulemaking”; 67 FR 53461 (Aug. 16, 2002)) obliges agencies to establish procedures promoting compliance with the Regulatory Flexibility Act. DOT posts its implementing guidance on a dedicated web page. This NPRM was developed in accordance with E.O. 13272 and DOT implementing guidance to ensure compliance with the Regulatory Flexibility Act. PHMSA expects the NPRM's proposals will relieve regulatory burdens and therefore certifies it will not have a significant impact on a substantial number of small entities.

G. Unfunded Mandates Reform Act of 1995

The Unfunded Mandates Reform Act (UMRA, 2 U.S.C. 1501 et seq.) requires agencies to assess the effects of Federal regulatory actions on State, local, and Tribal governments, and the private sector. For any proposed or final rule that includes a Federal mandate that may result in the expenditure by state, local, and Tribal governments, in the aggregate of $100 million or more (in 1996 dollars) in any given year, the agency must prepare, amongst other things, a written statement that qualitatively and quantitatively assesses the costs and benefits of the Federal mandate.

This NPRM would not impose unfunded mandates under UMRA because it does not result in costs of $100 million or more (in 1996 dollars) per year for either State, local, or Tribal governments, or to the private sector.

H. National Environmental Policy Act

The National Environmental Policy Act (NEPA, 42 U.S.C. 4321 et seq.) requires that Federal agencies assess and consider the impact of major Federal actions on the human and natural environment.

PHMSA analyzed this proposed rule in accordance with NEPA and issues this draft Finding of No Significant Impact (FONSI), as it has preliminarily determined that the rulemaking would not adversely affect safety and therefore will not significantly affect the quality of the human and natural environment.

I. Executive Order 13175

PHMSA analyzed this proposed rule according to the principles and criteria in E.O. 13175 (“Consultation and Coordination with Indian Tribal Governments”; 65 FR 67249 (Nov. 9, 2000)) and DOT Order 5301.1A (“Department of Transportation Tribal Consultation Polices and Procedures”). E.O. 13175 requires agencies to assure meaningful and timely input from Tribal government representatives in the development of rules that significantly or uniquely affect Tribal communities by imposing “substantial direct compliance costs” or “substantial direct effects” on such communities or the relationship or distribution of power between the Federal Government and Tribes.

PHMSA assessed the impact of this proposed rule and preliminarily determined that it would not significantly or uniquely affect Tribal communities or Indian Tribal governments. The rulemaking's regulatory amendments have a broad, national scope; therefore, the NPRM would not significantly or uniquely affect Tribal communities, much less impose substantial compliance costs on Native American Tribal governments or mandate Tribal action. For these reasons, PHMSA has concluded that the funding and consultation requirements of E.O. 13175 and DOT Order 5301.1A do not apply.

J. Paperwork Reduction Act

The Paperwork Reduction Act (44 U.S.C. 3501 et seq.) and its implementing regulations at 5 CFR 1320.8(d) requires that PHMSA provide interested members of the public and affected agencies with an opportunity to comment on information collection and recordkeeping requests. This rulemaking will not create, amend, or rescind any existing information collections.

K. Executive Order 13609 and International Trade Analysis

E.O. 13609 (“Promoting International Regulatory Cooperation”; 77 FR 26413 (May 4, 2012)) requires agencies consider whether the impacts associated with significant variations between domestic and international regulatory approaches are unnecessary or may impair the ability of American business to export and compete internationally. In meeting shared challenges involving health, safety, labor, security, environmental, and other issues, international regulatory cooperation can identify approaches that are at least as protective as those that are or would be adopted in the absence of such cooperation. International regulatory cooperation can also reduce, eliminate, or prevent unnecessary differences in regulatory requirements.

Similarly, the Trade Agreements Act of 1979 (Pub. L. 96-39), as amended by the Uruguay Round Agreements Act (Pub. L. 103-465), prohibits Federal agencies from establishing any standards or engaging in related activities that create unnecessary obstacles to the foreign commerce of the United States. For purposes of these requirements, Federal agencies may participate in the establishment of international standards, so long as the standards have a legitimate domestic objective, such as providing for safety, and do not operate to exclude imports that meet this objective. The statute also requires consideration of international standards and, where appropriate, that they be the basis for U.S. standards.

PHMSA engages with international standards setting bodies to protect the safety of the American public. PHMSA has assessed the effects of this proposed rule and has determined that its regulatory amendments will not cause unnecessary obstacles to foreign trade.

L. Cybersecurity and Executive Order 14028

E.O. 14028 (“Improving the Nation's Cybersecurity”; 86 FR 26633 (May 17, 2021)) directed the Federal Government to improve its efforts to identify, deter, and respond to “persistent and increasingly sophisticated malicious cyber campaigns.” PHMSA has considered the effects of this rulemaking and has determined that its regulatory amendments would not materially affect the cybersecurity risk profile for pipeline facilities.

List of Subjects in 49 CFR Part 192

Pipelines, pipeline safety, Natural gas.

In consideration of the foregoing, PHMSA proposes to amend 49 CFR part 192 as follows:

PART 192—TRANSPORTATION OF NATURAL AND OTHER GAS BY PIPELINE: MINIMUM FEDERAL SAFETY STANDARDS

1. The authority citation for part 192 continues to read as follows:

Authority: 30 U.S.C. 185(w)(3), 49 U.S.C. 5121, 60101 et seq., and 49 CFR 1.97.

2. Amend § 192.611 by revising paragraph (a)(1) to read as follows:

§ 192.611 Change in class location: Confirmation or revision of maximum allowable operating pressure.

(a) * * *

(1) If the segment involved has been previously tested in place for a period of not less than 8 hours or received a pre-installation strength test for a period of at least 4 hours pursuant to § 192.505(d):

* * * * *

Issued in Washington, DC, on June 26, 2025, under the authority delegated in 49 CFR 1.97.
Benjamin D. Kochman,
Acting Administrator.

[FR Doc. 2025-12128 Filed 6-27-25; 4:15 pm]

BILLING CODE 4910-60-P